DEPARTMENT OF THE INTERIOR

Bureau of Ocean Energy Management

[OMB Control Number 1010-0048; Docket ID: BOEM-2023-0004]

Agency Information Collection Activities; Geological and Geophysical (G&G) Explorations of the Outer Continental Shelf

AGENCY: Bureau of Ocean Energy Management, Interior.

ACTION: Notice of information collection; request for comment.

SUMMARY: In accordance with the Paperwork Reduction Act of 1995, the Bureau of Ocean Energy Management (BOEM) proposes this information collection request (ICR) to renew Office of Management and Budget (OMB) control number 1010-0048.

DATES: Comments must be received by BOEM no later than September 15, 2023.

ADDRESSES: Send your comments on this ICR by mail to the BOEM Information Collection Clearance Officer, Anna Atkinson, Bureau of Ocean Energy Management, 45600 Woodland Road, Sterling, Virginia 20166; or by email to anna.atkinson@boem.gov. Please reference OMB control number 1010-0048 in the subject line of your comments. You may also view and comment on the ICR and its related documents by searching the docket number “BOEM-2023-0004” at https://www.regulations.gov.

FOR FURTHER INFORMATION CONTACT: Anna Atkinson by email at anna.atkinson@boem.gov, or by telephone at 703-787-1025. Individuals in the United States who are deaf, deafblind, hard of hearing, or have a speech disability may dial 711 (TTY, TDD, or TeleBraille) to access telecommunications relay services. Individuals outside of the United States should use the relay services offered within their country to make international calls to the point-of-contact in the United States.

SUPPLEMENTARY INFORMATION: In accordance with the Paperwork Reduction Act of 1995, BOEM provides the general public and other Federal agencies with an opportunity to comment on new, proposed, revised, and continuing collections of information. This helps BOEM assess the impact of its information collection requirements and minimize the public's reporting burden. It also helps the public understand BOEM's information collection requirements and provide the requested data in the desired format.

BOEM is soliciting comments on the proposed ICR described below. BOEM is especially interested in public comments addressing the following issues: (1) is the collection necessary to the proper functions of BOEM; (2) what can BOEM do to ensure that this information is processed and used in a timely manner; (3) is the burden estimate accurate; (4) how might BOEM enhance the quality, utility, and clarity of the information to be collected; and (5) how might BOEM minimize the burden of this collection on the respondents, including minimizing the burden through the use of information technology?

Comments submitted in response to this notice are a matter of public record. BOEM will include or summarize each comment in its ICR to OMB for approval of this information collection. You should be aware that your entire comment—including your address, phone number, email address, or other personally identifiable information included in your comment—may be made publicly available at any time. BOEM will make available for public inspection all comments in their entirety (except proprietary information) submitted by organizations and businesses, or by individuals identifying themselves as representatives of organizations or businesses. BOEM protects proprietary information in accordance with FOIA and the DOI's implementing regulations.

For BOEM to consider withholding from disclosure your personally identifiable information, you must identify, in a cover letter, any information contained in your comment that, if released, would constitute a clearly unwarranted invasion of your privacy. You must also briefly describe any possible harmful consequences of the disclosure of information, such as embarrassment, injury, or other harm.

Even if BOEM withholds your personally identifiable information in the context of this ICR, your comment is subject to the Freedom of Information Act (FOIA) (5 U.S.C. 552). If your comment is requested under FOIA, your information will only be withheld if a determination is made that one of the FOIA exemptions to disclosure applies. Such a determination will be made in accordance with the DOI's FOIA implementing regulations (43 CFR part 2) and applicable law.

Title of Collection: 30 CFR part 551, “Geological and Geophysical (G&G) Explorations of the Outer Continental Shelf.”

Abstract: This ICR concerns the paperwork requirement in the regulations in 30 CFR part 551. This request also covers Form BOEM-0327, “Requirements for Geological and Geophysical Explorations or Scientific Research on the Outer Continental Shelf.”

Section 11(g) of the Outer Continental Shelf Lands Act (OCSLA), as amended (43 U.S.C. 1340(g)), authorizes the Secretary of the Interior to prescribe rules and regulations to govern the issuance of permits for G&G exploration on the Outer Continental Shelf (OCS). The OCSLA states that “any person authorized by the Secretary may conduct geological and geophysical explorations in the OCS, which do not interfere with or endanger actual operations under any lease maintained or granted pursuant to this subchapter, and which are not unduly harmful to aquatic life in such area.” It further provides that permits to conduct such activities may only be issued if it is determined that the applicant is qualified; the activities will not interfere with or endanger operations under any lease issued or maintained pursuant to OCSLA; and the activities will not be unduly harmful to aquatic life, result in pollution, create hazardous or unsafe conditions, unreasonably interfere with other uses of the area, or disturb any site, structure, or object of historical or archaeological significance.

Applicants for permits are required to submit Form BOEM-0327 to provide the information necessary to evaluate their qualifications. Upon BOEM approval of the application, respondents are issued a permit using Form BOEM-0328, “Permit for Geophysical Exploration for Mineral Resources or Scientific Research on the Outer Continental Shelf,” for conducting geophysical exploration for mineral resources or scientific research, or Form BOEM-0329, “Permit for Geological Exploration for Mineral Resources or Scientific Research on the Outer Continental Shelf,” for conducting geological exploration for mineral resources or scientific research. These permits are filled in by BOEM and do not incur a respondent hour burden.

The Independent Offices Appropriations Act (31 U.S.C. 9701), the Omnibus Appropriations Bill (Pub. L. 104-133, 110 Stat. 1321, April 26, 1996), and OMB Circular A-25 authorize Federal agencies to recover the full cost of services that confer special benefits. All G&G permits are subject to cost recovery, and BOEM regulations specify service fees for these requests.

Requirements for G&G Exploration or Scientific Research on the OCS are contained in 30 CFR part 551 and are the subject of this information collection renewal. BOEM is also renewing Form BOEM-0327. This form outlines the requirements for G&G activities requiring permits and notices and contains the application that the respondent submits to BOEM for approval as well as a nonexclusive use agreement for scientific research, if applicable.

OMB Control Number: 1010-0048.

Form Number: BOEM-0327, “Requirements for Geological and Geophysical Explorations or Scientific Research on the Outer Continental Shelf.”

Type of Review: Extension of a currently approved information collection.

Respondents/Affected Public: Potential respondents comprise Federal OCS oil, gas, and sulfur permittees or notice filers.

Total Estimated Number of Annual Responses: 578 responses.

Total Estimated Number of Annual Burden Hours: 21,454 hours.

Respondent's Obligation: Mandatory.

Frequency of Collection: On occasion, annual, or as specified in permit.

Total Estimated Annual Non-Hour Burden Cost: $116,696.

The currently approved OMB paperwork burden is 35,254 annual burden hours, 688 annual responses, and the non-hour cost burden totals $136,816. Due to a reduction in the number of annual responses to 578, the annual burden for this renewal is adjusted to 21,454 hours and the non-hour cost burden is adjusted to $116,696. The following table details the regulatory sections containing information collections and their respective hour burden estimates. In calculating the burdens, we assumed that respondents perform certain requirements in the normal course of their activities. We consider these to be usual and customary and took that into account in estimating the burden.

Burden Table
Citation 30 CFR 551 | Reporting and recordkeeping requirement | Non-hour cost burden *: Hour burden | Non-hour cost burden *: Average number of annual responses | Non-hour cost burden *: Annual burden hours
30 CFR 551.1 through 551.6
551.4(a), (b); 551.5(a), (b), (d); 551.6; 551.7 | Apply for permits (Form BOEM-0327) to conduct G&G exploration, including deep stratigraphic tests/revisions when necessary. Submit required information in manner specified | 1,000 Alaska ** 1,000 Atlantic & Pacific ** 300 GOM. | 2 Applications 1 Application 55 Applications | 2,000 1,000 16,500
|  | 58 applications × $2,012 = $116,696
551.4(b); 551.5(c), (d); 551.6 | File notices to conduct scientific research activities, including notice to BOEM prior to beginning and after concluding activities | 1 | 1 Notice | 1
551.6(b) 551.7(b)(5) | Notify BOEM if specific actions occur; report archaeological resources (no instances reported since 1982). Consult with other users | 1 | 1 Notice | 1
Subtotal |  |  | 60 responses | 19,502
|  |  | $116,696 non-hour cost burden
30 CFR 551.7 through 551.9
551.7; 551.8 | Submit Application for Permit to Drill (APD) and Supplemental APD to BSEE | Burden included under BSEE regulations at 30 CFR 250, Subpart D (1014-0018) |  | 0
551.7; 551.8(b) | Submit information on test drilling activities under a permit, including required information and plan revisions (e.g., drilling plan and environmental report) | 1 | 1 Submission | 1
551.7(c) | Enter into agreement for group participation in test drilling, including publishing summary statement; provide BOEM copy of notice/list of participants (no agreements submitted since 1989) | 1 | 1 Agreement | 1
551.7(d) | Submit bond(s) on deep stratigraphic test and required securities | Burden included under 30 CFR Part 556 (1010-0006). |  | 0
551.8(a) | Request reimbursement for certain costs associated with BOEM inspections (no requests in many years) | 1 | 1 Request | 1
551.8(b), (c) | Submit modifications to permits, and status/final reports on, activities conducted under a permit | 38 Alaska ** 38 Atlantic & Pacific ** 2 GOM | 2 Respondents × 10 Reports = 20 1 Respondents × 10 Reports = 10 55 Respondents × 3 Reports = 165 | 760 380 330
551.9(c) | Notify BOEM to relinquish a permit. | 1/2 | 2 Notices | 1
Subtotal |  |  | 200 responses | 1,474
30 CFR 551.10 through 551.13
551.10(c) | File appeals | Exempt under 5 CFR 1320.4(a)(2), (c) |  | 0
551.11; 551.12 | Notify BOEM and submit G&G data and/or information collected and/or processed by permittees, bidders, or 3rd parties, etc., including reports, logs or charts, results, analyses, descriptions, information as required, and agreements, in manner specified | 4 | 40 Submissions | 160
551.13 | Request reimbursement for certain costs associated with reproducing data/information | 2 | 40 Submissions | 80
Subtotal |  |  | 80 responses | 240
30 CFR 551.14
551.14(a), (b) | Submit comments on BOEM intent to disclose data and/or information to the public | 1 | 2 Comments | 2
551.14(c)(2) | Submit comments on BOEM intent to disclose data and/or information to an independent contractor/agent | 1 | 2 Comments | 2
551.14(c)(4) | Contractor/agent submits written commitment not to sell, trade, license, or disclose data and/or information without BOEM consent | 1 | 2 Commitments | 2
551.1-551.14 | General departure and alternative compliance requests not specifically covered elsewhere in part 551 regulations | 1 | 2 Requests | 2
Subtotal |  |  | 8 responses | 8
Extension for Permit Form & Recordkeeping
551.14(b) (BOEM-0327) | Request extension of permit time period; enter agreements | 1 | 100 Extensions | 100
| Retain G&G data/information for 10 years and make available to BOEM upon request | 1 | 130 Recordkeepers | 130
Subtotal |  |  | 230 responses | 230
Total Burden |  |  | 578 Responses | 21,454
|  |  | $116,696 Non-Hour Cost Burden
* Fees are subject to modification per inflation annually.
** Burden hours for the Alaska, Atlantic, and Pacific OCS are significantly higher because of NEPA and mitigation requirements. BOEM is accounting for the total time to compile/submit the necessary information to obtain the required authorizations to acquire a BOEM permit. Survey permits under part 551 have not been issued in the Atlantic or Pacific since 2019 and 2006, respectively, however both regions currently have a pending survey permit application.

An agency may not conduct or sponsor, and a person is not required to respond to, a collection of information unless it displays a valid OMB control number.

The authority for this action is the Paperwork Reduction Act of 1995 (44 U.S.C. 3501 et seq.).

Karen Thundiyil,
Chief, Office of Regulations, Bureau of Ocean Energy Management.

[FR Doc. 2023-15059 Filed 7-14-23; 8:45 am]

BILLING CODE 4340-98-P